ENVIRONMENTAL PROTECTION AGENCY

[FRL-7775-9]

National Drinking Water Advisory Council's Water Security Working Group Meeting Announcement

AGENCY: Environmental Protection Agency.

ACTION: Notice.

SUMMARY: The U.S. Environmental Protection Agency (EPA or Agency) is announcing the first teleconference meeting of the Water Security Working Group (WSWG) of the National Drinking Water Advisory Council (NDWAC). The purpose of this conference call is to provide a forum for the WSWG members to introduce themselves, to discuss the ground rules and standard operating procedures, and to develop an estimated time frame and approach to complete the WSWG charge. Any interested person or organization may attend or dial into the conference call (see the FOR FURTHER INFORMATION CONTACT section and the SUPPLEMENTARY INFORMATION section of this notice for more information).

DATES: The first WSWG conference call will take place from 3:30 p.m. to 5:30 p.m., Eastern standard time, on July 6, 2004.

FOR FURTHER INFORMATION CONTACT: Interested participants from the public should contact Marc Santora, Designated Federal Officer, U.S. Environmental Protection Agency, Office of Ground Water and Drinking Water, Water Security Division (Mail Code 4601-M), 1200 Pennsylvania Avenue, NW., Washington, DC, 20460. Please contact Marc Santora at santora.marc@epa.gov or call 202-564-1597 to register and receive pertinent details such as the telephone number and extension to participate in the conference call.

SUPPLEMENTARY INFORMATION: The WSWG encourages public participation. A limited number of additional phone lines may be available for members of the public that are outside of the Washington, DC metropolitan commuting area and are unable to attend in person. The Designated Federal Officer will reserve any additional teleconferencing lines that are available on a first-come, first-serve basis. To ensure adequate time for public involvement, oral statements will be limited to five minutes, and it is preferred that only one person present the statement on behalf of a group or organization. Any person who wishes to file a written statement can do so before or after the WSWG meeting. Written statements received prior to the meeting will be distributed to all members of the WSWG before any final discussion or vote is completed. Any statements received after the meeting will become part of the permanent meeting file and will be forwarded to the WSWG members for their information. Any person needing special accommodations at this meeting, including wheelchair access, should contact the Designated Federal Officer, at the number or e-mail listed under the FOR FURTHER INFORMATION CONTACT section, at least five business days before the meeting so that appropriate arrangements can be made.

Background

The EPA is designated as the lead Agency for the security of the nation's drinking water and wastewater sectors. The National Drinking Water Advisory Council was established under the Safe Drinking Water Act, as amended (42 U.S.C. 300f et seq.) to provide practical and independent advice, consultation, and recommendations to the Agency on the activities, functions, and policies related to the implementation of the Safe Drinking Water Act. On February 10, 2004, NDWAC voted and approved to form the WSWG to address best security practices for drinking water and wastewater facilities (i.e., the water sector) in becoming more secure against malevolent threats. The Agency is projecting three to five face-to-face meetings over the course of the next year in addition to conference calls and/or video conferencing on an as needed basis. After the WSWG completes the charge, a report out in terms of recommendations will be made to the full NDWAC. The full NDWAC will, in turn, make appropriate recommendations to the EPA.

Working Group Charge

The charge for the Water Security Working Group is to provide recommendations to the full NDWAC that: (1) Identify, compile, and characterize best security practices and policies for drinking water and wastewater utilities and provide an approach for considering and adopting these practices and policies at a utility level; (2) consider mechanisms to provide recognition and incentives that facilitate a broad and receptive response among the water sector to implement these best security practices and policies and make recommendations as appropriate; (3) consider mechanisms to measure the extent of implementation of these best security practices and policies, identify the impediments of their implementation, and make recommendations as appropriate.

Dated: June 15, 2004.
Nanci Gelb,
Acting Director, Office of Ground Water and Drinking Water.

[FR Doc. 04-13931 Filed 6-18-04; 8:45 am]

BILLING CODE 6560-50-P